DEPARTMENT OF AGRICULTURE

Forest Service

Deschutes Provincial Interagency Executive Committee (PIEC), Advisory Committee

AGENCY: Forest Service.

ACTION: Notice of meeting.

SUMMARY: The Deschutes PIEC Advisory Committee will meet on September 20-21. The first day will be a field trip starting at 9 a.m. at the Prineville BLM Office for a tour of water quality-related issues in the basin. The second day will be a business meeting starting at 9 a.m. at the Satafford Inn at 1773 NE 3rd St. in Prineville, Oregon. Agenda items will include: Water Quality Restoration Plans in the Deschutes Basin, a Wrap up of PAC Goals, Info Sharing and a Public Forum from 3:30 p.m. till 4 p.m. All Deschutes Province Advisory Committee Meetings are open to the public.

FOR FURTHER INFORMATION CONTACT: Mollie Chaudet, Province Liaison, USDA, Bend-Ft. Rock Ranger District, 1230 NE 3rd, Bend, OR 97701, Phone (541) 416-6872.

Dated: September 4, 2001.
Leslie A.C. Weldon,
Deschutes National Forest Supervisor.

[FR Doc. 01-22853 Filed 9-11-01; 8:45 am]

BILLING CODE 3410-11-M